DEPARTMENT OF TRANSPORTATION

Federal Aviation Administration

14 CFR Part 71

[Docket No. FAA-2011-0611; Airspace Docket No. 11-AWP-11]

Amendment of Class D Airspace; Santa Monica, CA

AGENCY: Federal Aviation Administration (FAA), DOT.

ACTION: Final rule.

SUMMARY: This action modifies Class D airspace at Santa Monica Municipal Airport, Santa Monica, CA, to accommodate aircraft departing and arriving under Instrument Flight Rules (IFR) at the airport. This action initiated by the biennial review of the Santa Monica Municipal Airport airspace area, and on the results of a study conducted by the Los Angeles Visual Flight Rules (VFR) Task Force, and the Los Angeles Class B Workgroup, enhances the safety and management of aircraft operations at the airport. Adjustments to the geographic coordinates of the airport also are made.

DATES: Effective date, 0901 UTC, December 12, 2013. The Director of the Federal Register approves this incorporation by reference action under 1 CFR Part 51, subject to the annual revision of FAA Order 7400.9 and publication of conforming amendments.

FOR FURTHER INFORMATION CONTACT: Rick Roberts, Federal Aviation Administration, Operations Support Group, Western Service Center, 1601 Lind Avenue SW., Renton, WA, 98057; telephone (425) 203-4517.

SUPPLEMENTARY INFORMATION:

History

On October 27, 2011, the FAA published in the Federal Register a notice of proposed rulemaking (NPRM) to modify controlled airspace at Santa Monica, CA (76 FR 66662). Interested parties were invited to participate in this rulemaking effort by submitting written comments on the proposal to the FAA. No comments were received. Subsequent to publication, the Los Angeles VFR Airspace Task Force reassessed the proposal and on June 25, 2013, the FAA published in the Federal Register a supplemental notice of proposed rulemaking (SNPRM) to further modify controlled airspace at Santa Monica, CA (78 FR 37997). Interested parties were invited to participate in the rulemaking effort by submitting written comments on the proposal to the FAA. No comments were received.

Class D airspace designations are published in paragraph 5000, of FAA Order 7400.9W dated August 8, 2012, and effective September 15, 2012, which is incorporated by reference in 14 CFR Part 71.1. The Class D airspace designations listed in this document will be published subsequently in that Order.

The Rule

This action amends Title 14 Code of Federal Regulations (14 CFR) Part 71 by modifying the Class D airspace area to within a 4-mile radius of Santa Monica Municipal Airport, Santa Monica, CA, with a segment extending from the 4-mile radius to 4.6 miles northeast of the airport, to accommodate IFR aircraft departing and arriving at the airport. The geographic coordinates of the airport are updated to coincide with the FAA's aeronautical database. Expanding the current Santa Monica Municipal Airport Class D airspace reduces those areas that pose a high collision risk to low level commercial, general aviation, military and helicopter operations.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified this rule, when promulgated, does not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies controlled airspace at Santa Monica Municipal Airport, Santa Monica, CA.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D AND E AIRSPACE AREAS; AIR TRAFFIC SERVICE ROUTES; AND REPORTING POINTS

1. The authority citation for 14 CFR part 71 continues to read as follows:

Authority: 49 U.S.C. 106(g), 40103, 40113, 40120; E. O. 10854, 24 FR 9565, 3 CFR, 1959-1963 Comp., p. 389.

§ 71.1 [Amended]

2. The incorporation by reference in 14 CFR part 71.1 of the Federal Aviation Administration Order 7400.9W, Airspace Designations and Reporting Points, dated August 8, 2012, and effective September 15, 2012 is amended as follows:

Paragraph 5000 Class D airspace.

* * * * *

AWP CA D Santa Monica, CA [Modified]

Santa Monica Municipal Airport, CA

(Lat. 34°0′57″ N., long. 118°27′05″ W.)

That airspace extending upward from the surface to and including 2,700 feet MSL within a 4-mile radius of the Santa Monica Municipal Airport, and within 1.5 miles each side of the 047° bearing of the Santa Monica Airport extending from the 4-mile radius to 4.6 miles northeast of the airport, excluding that airspace within the Los Angeles, CA, Class D airspace area. This Class D airspace area is effective during the specific dates and times established in advance by a Notice to Airmen. The effective date and time will thereafter be continuously published in the Airport/Facility Directory.

Issued in Seattle, Washington, on August 19, 2013.
Clark Desing,
Manager, Operations Support Group, Western Service Center.

[FR Doc. 2013-21497 Filed 9-4-13; 8:45 am]

BILLING CODE 4910-13-P